DEPARTMENT OF THE TREASURY

Office of Thrift Supervision

Proposed Agency Information Collection Activities; Comment Request—Savings Association Holding Company Report H-(b)11

AGENCY: Office of Thrift Supervision (OTS), Treasury.

ACTION: Notice and request for comment.

SUMMARY: The Department of the Treasury, as part of its continuing effort to reduce paperwork and respondent burden, invites the general public and other Federal agencies to comment on proposed and continuing information collections, as required by the Paperwork Reduction Act of 1995, 44 U.S.C. 3507. The Office of Thrift Supervision within the Department of the Treasury will submit the proposed information collection requirement described below to the Office of Management and Budget (OMB) for review, as required by the Paperwork Reduction Act. Today, OTS is soliciting public comments on the Savings Association Holding Company Report H-(b)11 proposal.

DATES: Submit written comments on or before November 24, 2003.

ADDRESSES: Send comments, referring to the collection by title (Savings Association Holding Company Report H-(b)11) or by OMB approval number (1550-0060), to Information Collection Comments, Chief Counsel's Office, Office of Thrift Supervision, 1700 G Street, NW., Washington, DC 20552; send a facsimile transmission to (202) 906-6518; or send an e-mail to infocollection.comments@ots.treas.gov. OTS will post comments and the related index on the OTS Internet Site at www.ots.treas.gov. In addition, interested persons may inspect comments at the Public Reading Room, 1700 G Street, NW., by appointment. To make an appointment, call (202) 906-5922, send an e-mail to publicinfo@ots.treas.gov, or send a facsimile transmission to (202) 906-7755.

FOR FURTHER INFORMATION CONTACT: You can request additional information about this proposed information collection from Kevin O'Connell, Affiliates Specialist, (202) 906-5693, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Comments should address one or more of the following points:

a. Whether the proposed collection of information is necessary for the proper performance of the functions of OTS;

b. The accuracy of OTS's estimate of the burden of the proposed information collection;

c. Ways to enhance the quality, utility, and clarity of the information to be collected;

d. Ways to minimize the burden of the information collection on respondents, including through the use information technology.

We will summarize the comments that we receive and include them in the OTS request for OMB approval. All comments will become a matter of public record. In this notice, OTS is soliciting comments concerning the following information collection.

Title of Proposal: Savings Association Holding Company Report H-(b)11.

OMB Number: 1550-0060.

Form Number: H-(b)11.

Regulation requirement: 12 CFR 584.1(a)(2).

Description: The H-(b)11 form is used to aid OTS in determining whether savings and loan holding companies are engaging in activities that may prove injurious to any subsidiary savings association, as well as to applicable statutes and regulations. We are seeking only a six-month renewal of the current form, to March 31, 2004, as we are in the process of streamlining the form in conjunction with an expansion of holding company information to be gathered through the quarterly Thrift Financial Report. The streamlined H-(b)11, which we anticipate reducing the current 22 information request items to only four, would take effect April 1, 2004, in conjunction with the expanded Thrift Financial Report. The new H-(b)11 form is expected to be submitted for public notice by October of 2003.

Type of Review: Renewal.

Affected Public: Savings association holding companies.

Estimated Number of Respondents: 963.

Estimated Frequency of Response: 2 (using the current form).

Estimated Burden Hours per Response: 15.5 hours.

Estimated Total Burden: 29,853 hours.

Clearance Officer: Marilyn K. Burton, (202) 906-6467, Office of Thrift Supervision, 1700 G Street, NW., Washington, DC 20552.

OMB Reviewer: Joseph F. Lackey, Jr., (202) 395-7316, Office of Management and Budget, Room 10235, New Executive Office Building, Washington, DC 20503.

Dated: September 15, 2003.
By the Office of Thrift Supervision.
James E. Gilleran,
Director.

[FR Doc. 03-24070 Filed 9-22-03; 8:45 am]

BILLING CODE 6720-01-P